DEPARTMENT OF HOMELAND SECURITY

Coast Guard

33 CFR Part 117

[USCG-2008-1060]

RIN 1625-AA09

Drawbridge Operation Regulation; Mantua Creek, Paulsboro, NJ

AGENCY: Coast Guard, DHS.

ACTION: Temporary deviation from regulations.

SUMMARY: The Commander, Fifth Coast Guard District, has issued a temporary deviation from the regulation governing the operation of the S.R. 44 Bridge, at mile 1.7, across Mantua Creek at Paulsboro, NJ. This deviation allows the bridge to remain closed to navigation to facilitate mechanical repairs.

DATES: This deviation is effective from 6 a.m. on December 1, 2008, to 6 p.m. on December 31, 2008.

ADDRESSES: Documents indicated in this preamble as being available in the docket are part of docket USCG-2008-1060 and are available online at http://www.regulations.gov. They are also available for inspection or copying at two locations: the Docket Management Facility (M-30), U.S. Department of Transportation, West Building Ground Floor, Room W12-140, 1200 New Jersey Avenue, SE., Washington, DC 20590, between 9 a.m. and 5 p.m., Monday through Friday, except Federal holidays, and the Commander (dpb), Fifth Coast Guard District, Federal Building, 1st Floor, 431 Crawford Street, Portsmouth, VA 23704-5004 between 8 a.m. and 4 p.m., Monday through Friday, except Federal holidays.

FOR FURTHER INFORMATION CONTACT: Mr. Gary S. Heyer, Bridge Management Specialist, Fifth Coast Guard District, at (757) 398-6629.

SUPPLEMENTARY INFORMATION: The New Jersey Department of Transportation, who owns and operates this vertical-lift drawbridge, has requested a temporary deviation from the current operating regulations set out in 33 CFR 117.729(b) which requires the bridge to open signal from March 1 through November 30 from 7 a.m. to 11 p.m., and on signal at all other times upon four hours notice.

The S.R. 44 Bridge, at mile 1.7, across Mantua Creek has vertical clearances in the full open and closed positions to vessels of 64 feet and 5 feet, above mean high water, respectively.

Under this temporary deviation to facilitate the repairs to the operating machinery, the S.R. 44 Bridge will be maintained in the closed-to-navigation position beginning at 6 a.m. on Monday, December 1, 2008 until and including 6 p.m. on Wednesday, December 31, 2008. There are no alternate routes for vessels with a mast height greater than 5 feet.

The Coast Guard will inform the users of the waterway through our Local and Broadcast Notices to Mariners of the opening restrictions of the draw span to minimize transiting delays caused by the temporary deviation.

In accordance with 33 CFR 117.35(e), the drawbridge must return to its regular operating schedule immediately at the end of the designated time period. This deviation from the operating regulations is authorized under 33 CFR 117.35.

Dated: November 6, 2008.
Waverly W. Gregory, Jr.,
Chief, Bridge Administration Branch Fifth Coast Guard District.

[FR Doc. E8-27520 Filed 11-19-08; 8:45 am]

BILLING CODE 4910-15-P